DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before November 5, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW, Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-153351

Applicant: WASS Gerke & Associates, Scottsdale, Arizona.

Applicant requests a permit for research and recovery purposes to conduct presence/absence surveys for the Southwestern willow flycatcher (Empidonax traillii extimus) and the Yuma clapper rail (Rallus longirostris yumanensis) within Arizona.

Permit TE-161542

Applicant: Arizona Public Service (APS)—Four Corners Power Plant, Fruitland, New Mexico.

Applicant requests a permit for research and recovery purposes to conduct presence/absence surveys for the Southwestern willow flycatcher (Empidonax traillii extimus) and the Yuma clapper rail (Rallus longirostris yumanensis) within Arizona.

Permit TE-776123

Applicant: Texas A & M University at Galveston, Galveston, Texas.

Applicant requests a permit for research and recovery purposes to conduct research, surveys, and retrieval of stranded leatherback sea turtles (Dermochelys coriacea) within coastal Texas.

Permit No. TE-161391

Applicant: Edwards, Shannon, San Antonio, Texas.

Applicant requests a new permit to conduct presence/absence surveys for the golden-cheeked warbler (Dendroica chryoparia) and black capped-vireo (Vireo atricapilla) for research and recovery purposes in central and west central Texas.

Permit No. TE-819477

Applicant: John Taschek, Taschek Environmental Consulting, Albuquerque, New Mexico.

Applicant requests an amendment to an existing permit to add presence/absence surveys for black-footed ferret (Mustela nigripes), interior least tern (Sterna antillarum), northern aplomado falcon (Falco femoralis septentrionalis), Colorado pikeminnow (Ptychocheilus lucius), Gila chub (Gila intermedia), Gila topminnow (Poeciliopsis occidentalis), razorback sucker (Xyrauchen texanus), and Rio Grande silvery minnow (Hybognathus amarus); presence/absence surveys and collection of Holy Ghost ipomopsis (Ipomopsis sanctispiritus), Knowlton cactus (Pediocactus knowltonii), Kuenzler hedgehog cactus (Echinocereus fendleri var. kuenzleri), Mancos milk-vetch (Astragalus humillimus), Sacramento prickly poppy (Argemone pleiacantha ssp. pinnatisecta), Sneed pincushion cactus (Coryphantha sneedii var. sneedii), and Todsen's pennyroyal (Hedeoma todsenii); and capture and handling of Mexican spotted owl (Strix occidentalis lucida) within Arizona and New Mexico.

Authority: 16 U.S.C. 1531 et seq.

Dated: August 31, 2007.
Christopher T. Jones,
Acting Regional Director, Region 2, Albuquerque, New Mexico.

[FR Doc. E7-19621 Filed 10-3-07; 8:45 am]

BILLING CODE 4310-55-P